DEPARTMENT OF TRANSPORTATION

Federal Aviation Administration

14 CFR Part 39

[Docket No. FAA-2006-26047; Directorate Identifier 2006-NM-146-AD]

RIN 2120-AA64

Airworthiness Directives; Airbus Model A300 B4-605R Airplanes and Model A310-308, -324, and -325 Airplanes

AGENCY: Federal Aviation Administration (FAA), Department of Transportation (DOT).

ACTION: Notice of proposed rulemaking (NPRM).

SUMMARY: The FAA proposes to adopt a new airworthiness directive (AD) for certain Airbus Model A300 B4-605R airplanes and Model A310-308, -324, and -325 airplanes. This proposed AD would require modifying the Bruce floor plan electrical emergency path marking system (FPEEPMS) and, for certain airplanes, modifying the automatic switching of the emergency lighting system. This proposed AD results from a report that in the case of vertical separation of the fuselage forward of door 1, the FPEEPMS and the exit signs do not turn on. We are proposing this AD to prevent inadequate lighting and marking of the escape path, which could delay or impede the flightcrew and passengers when exiting the airplane during an emergency landing.

DATES: We must receive comments on this proposed AD by November 13, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• Fax: (202) 493-2251.

• Hand Delivery: Room PL-401 on the plaza level of the Nassif Building, 400 Seventh Street, SW., Washington, DC, between 9:00 a.m. and 5:00 p.m., Monday through Friday, except Federal holidays.

Contact Airbus, 1 Rond Point Maurice Bellonte, 31707 Blagnac Cedex, France, for service information identified in this proposed AD.

FOR FURTHER INFORMATION CONTACT: Tom Stafford, Aerospace Engineer, International Branch, ANM-116, FAA, Transport Airplane Directorate, 1601 Lind Avenue, SW., Renton, Washington 98057-3356; telephone (425) 227-1622; fax (425) 227-1149.

SUPPLEMENTARY INFORMATION:

Comments Invited

We invite you to submit any relevant written data, views, or arguments regarding this proposed AD. Send your comments to an address listed in the ADDRESSES section. Include the docket number “FAA-2006-26047; Directorate identifier 2006-NM-146-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The European Aviation Safety Agency (EASA), which is the airworthiness authority for the European Union, notified us that an unsafe condition may exist on certain Airbus Model A300 B4-605R airplanes and Model A310-308, -324, and -325 airplanes. The EASA advises that a report has shown that in the case of vertical separation of the fuselage forward of door 1, the Bruce floor plan electrical emergency path marking system (FPEEPMS) and the exit signs do not turn on. This condition, if not corrected, could result in inadequate lighting and marking of the escape path, which could delay or impede the flightcrew and passengers when exiting the airplane during an emergency landing.

Relevant Service Information

Airbus has issued Service Bulletin A300-33-6047, Revision 01, dated January 20, 2006 (for Model A300 B4-605R airplanes); and Service Bulletin A310-33-2045, Revision 01, dated January 20, 2006 (for Model A310-308, -24, and -325 airplanes). The service bulletins describe procedures for modifying the Bruce FPEEPMS. The modification includes the following actions, depending on the configuration of the airplane:

• Modifying equipment and wiring between air bleed panel 436VU and the avionics compartment.

• Modifying terminal block 5700 VT and installing wiring.

• Modifying terminal blocks 4701VT, 4903VT, 5503VT, and 5702VT.

• Removing, installing, and modifying wiring in various locations, such as from the aft power supply unit through the cabin with connection to all other power supply units and the EMERG LIGHT switch 28WL.

Airbus Service Bulletin A310-33-2045, Revision 01, dated January 20, 2006, also specifies prior or concurrent accomplishment of Airbus Service Bulletin A310-33-2025, Revision 01, dated April 17, 2001, for modifying the automatic switching of the emergency lighting system. The modification of the automatic switching involves the following actions:

• Modifying equipment and wiring in the relay box 104VU.

• Modifying equipment and wiring in the relay box 107VU.

• Modifying wiring in the alternating current power center 101VU.

• Modifying equipment and wiring in the avionics compartment, zone 120.

• Modifying wiring between the flight compartment, zone 210, and the avionics compartment, zone 120.

• Doing the actions specified in A310-33-2025 concurrently or prior to the modification of the automatic switching.

Accomplishing the actions specified in the service information is intended to adequately address the unsafe condition. The EASA mandated Airbus Service Bulletin A300-33-6047, Revision 01, and Service Bulletin A310-33-2045, Revision 01, and issued airworthiness directive 2006-0077, dated April 3, 2006, to ensure the continued airworthiness of these airplanes in the European Union.

FAA's Determination and Requirements of the Proposed AD

These airplane models are manufactured in France and are type certificated for operation in the United States under the provisions of section 21.29 of the Federal Aviation Regulations (14 CFR 21.29) and the applicable bilateral airworthiness agreement. As described in FAA Order 8100.14A, “Interim Procedures for Working with the European Community on Airworthiness Certification and Continued Airworthiness,” dated August 12, 2005, the EASA has kept the FAA informed of the situation described above. We have examined the EASA's findings, evaluated all pertinent information, and determined that we need to issue an AD for airplanes of this type design that are certificated for operation in the United States.

Therefore, we are proposing this AD, which would require accomplishing the actions specified in the service information described previously.

Difference Between the EASA Airworthiness Directive and This Proposed AD

The applicability of EASA airworthiness directive 2006-0077 excludes airplanes on which Airbus Service Bulletin A310-33-2045, Revision 01, or A300-33-6047, Revision 01, have been accomplished in service. However, we have not excluded those airplanes in the applicability of this proposed AD; rather, this proposed AD includes a requirement to accomplish the actions specified in Revision 01 of those service bulletins, as applicable. This requirement would ensure that the actions specified in the applicable service bulletin and required by this proposed AD are accomplished on all affected airplanes. Operators must continue to operate the airplane in the configuration required by this proposed AD unless an alternative method of compliance is approved.

Clarification of Concurrent Service Bulletin

EASA airworthiness directive 2006-0077 does not specify doing Airbus Service Bulletin A310-33-2025, Revision 01, dated April 17, 2001, which is a concurrent service bulletin for Airbus Service Bulletin A310-33-2045, Revision 01, dated January 20, 2006. This proposed AD specifies doing Airbus Service Bulletin A310-33-2025, Revision 01, dated April 17, 2001. We have coordinated with the EASA that this concurrent action is necessary to ensure continued safety.

Costs of Compliance

The following table provides the estimated costs for U.S. operators to comply with this proposed AD.

Estimated Costs
Action | Work hours | Average labor rate per hour | Parts | Cost per airplane | Number of U.S.-registered airplanes | Fleet cost
Modification of FPEEPMS | 44 to 47 | $80 | $2,570 to $2,690 | $6,090 to $6,450 | 1 | $6,090 to $6,450.
Modification of automatic switching | 14 | 80 | $534 to $727 | $1,654 to $1,847 | 1 | $1,654 to $1,847.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2006-26047; Directorate Identifier 2006-NM-146-AD.

Comments Due Date

(a) The FAA must receive comments on this AD action by November 13, 2006.

Affected ADs

(b) None.

Applicability

(c) This AD applies to Airbus Model A300 B4-605R airplanes and Model A310-308, -324, and -325 airplanes, certificated in any category; on which Airbus Modification 06810 or 06934 (Bruce floor proximity emergency escape path marking system (FPEEPMS)) has been installed in production; or on which Airbus Service Bulletin A300-33-6047 or A310-33-2045, both dated March 5, 2004, has been done.

Unsafe Condition

(d) This AD results from a report that in the case of vertical separation of the fuselage forward of door 1, the FPEEPMS and the exit signs do not turn on. We are issuing this AD to prevent inadequate lighting and marking of the escape path, which could delay or impede the flightcrew and passengers when exiting the airplane during an emergency landing.

Compliance

(e) You are responsible for having the actions required by this AD performed within the compliance times specified, unless the actions have already been done.

Modification

(f) Within 16 months after the effective date of this AD, modify the Bruce FPEEPMS in accordance with the Accomplishment Instructions of Airbus Service Bulletin A300-33-6047, Revision 01, dated January 20, 2006 (for Model A300 B4-605R airplanes); or Airbus Service Bulletin A310-33-2045, Revision 01, dated January 20, 2006 (for Model A310-308, -324, and -325 airplanes); as applicable.

(g) For Model A310-308, -324, and -325 airplanes: Prior to or concurrently with the modification required in paragraph (f) of this AD, modify the automatic switching of the emergency lighting system in accordance with the Accomplishment Instructions of Airbus Service Bulletin A310-33-2025, Revision 01, dated April 17, 2001.

Modifications Accomplished According to Previous Issue of Service Bulletin

(h) Modifications accomplished before the effective date of this AD in accordance with Airbus Service Bulletin A310-33-2025, dated March 1, 1993, are considered acceptable for compliance with the corresponding action specified in paragraph (g) of this AD.

Alternative Methods of Compliance (AMOCs)

(i)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(j) European Aviation Safety Agency (EASA) airworthiness directive 2006-0077, dated April 3, 2006, also addresses the subject of this AD.

Issued in Renton, Washington, on October 3, 2006.
Kalene C. Yanamura,
Acting Manager, Transport Airplane Directorate, Aircraft Certification Service.

[FR Doc. E6-16882 Filed 10-11-06; 8:45 am]

BILLING CODE 4910-13-P